DEPARTMENT OF LABOR

Office of Disability Employment Policy

Agency Information Collection Activities; Proposed Collection; Comment Request

ACTION: Notice of proposed data collection.

SUMMARY: The U.S. Department of Labor, as part of its continuing effort to reduce paperwork and respondent burden, conducts a pre-clearance consultation process to provide the general public and Federal agencies with an opportunity to comment on proposed and/or continuing collections of information in accordance with the Paperwork Reduction Act of 1995 (PRA95) [44 U.S.C. 3506(c)(2)(A)]. This process helps ensure that requested data can be provided in the desired format, reporting burdens are minimized, collection instruments are clearly understood, and the impact of collection requirements on respondents can be properly assessed. Currently the Office of Disability Employment Policy (ODEP) is soliciting comments concerning a proposed data collection for the following survey: 2009 NATIONAL SURVEY OF PUBLIC ATTITUDES TOWARD PEOPLE WITH DISABILITIES. A copy of the proposed information collection request (ICR) can be obtained by contacting the office listed below in the ADDRESSES section of this notice.

DATES: Written comments must be submitted to the office shown in the ADDRESSES section below on or before March 15, 2010.

ADDRESSES: Richard Horne, U.S. Department of Labor, Office of Disability Employment Policy, 200 Constitution Avenue, NW., Suite S-1303, Washington, DC 20210. Telephone: (202) 693-7880. This is not a toll-free number. E-mail: horne.richard@dol.gov.

FOR FURTHER INFORMATION CONTACT: Richard Horne, telephone: (202) 693-7880, e-mail: horne.richard@dol.gov.

SUPPLEMENTARY INFORMATION:

I. Background

This survey project is a central part of the Task Order DOLU8942143, entitled 2009 National Survey of Public Attitudes toward People with Disabilities. This Task Order is being administered by the Office of Disability Employment Policy (ODEP), a federal agency in the U.S. Department of Labor (DOL) and the lead agency in DOL's implementation of the employment-related goals of the President. ODEP's vision is to provide national leadership to increase employment opportunities for adults and youth with disabilities while striving to eliminate barriers to their employment. Social Dynamics LLC is contracted to design and implement the 2009 National Survey of Public Attitudes toward People with Disabilities.

This data collection is authorized pursuant to Public Law 106-554 which direct the Office of Disability Policy to provide initiatives to “further the objective of eliminating employment barriers to the training and employment of people with disabilities.”

II. Desired Focus of Comments

The Department is particularly interested in comments which:

Evaluate whether the collection of information is necessary for the proper performance of the functions of the agency, including whether the information will have practical utility;

Evaluate the accuracy of the agency's estimate of the burden of the collection of information, including the validity of the methodology and assumptions used;

Enhance the quality, utility, and clarity of the information to be collected; and

Minimize the burden of the collection of information on those who are to respond, including through the use of appropriate automated, electronic, mechanical, or other technological collection techniques or other forms of information technology, e.g., permitting electronic submissions of responses.

III. Current Action

This proposed collection ICR covers: The Survey of Public Attitudes Toward People With Disabilities (PWD). The survey will build on the findings of previous surveys, with an emphasis on current attitudes and behaviors of people toward PWD. The survey will be conducted by telephone utilizing computer assisted telephone interviewing (CATI). The survey will also solicit free-text comments from respondents regarding their attitudes toward PWD in the workplace.

Agency: Office of Disability Employment Policy.

Titles: Survey of Public Attitudes Toward People with Disabilities.

OMB Number: Pending.

Frequency: One time.

Type of Response: Reporting.

Affected Public: People between 18 and 64 years of age.

Number of Respondents: 1,600.

Exhibit A-1—Estimated Hour and Annual Cost Response Burden
Data collection activity | Number of respondents | Responses per respondent | Hours per response | Annual burden hours | Annual burden (cost)
Pilot | 9 | 1 | 15 min | 2.25 | $41.31
National survey | 1,600 | 1 | 15 min | 400 | 7,344
Non-participants contacted | 2,847 | 1 | 5 min | 237.25 | 4,356
Total |  |  |  |  | 54,270

Total Burden Cost (capital/startup): $0.

Total Burden Cost (operating/maintaining): $0.

Description: Changes instituted with the Americans with Disabilities Act of 1990 have made workplace discrimination against people with disabilities illegal, while guaranteeing their right to special accommodations in the workplace. Still, data continue to show low levels of employment and pay of people with disabilities when compared to people without disabilities. This is true even as previous survey research studies on public attitudes report high rates of acceptance and positive ratings of satisfaction regarding workers with disabilities, though quasi-experimental and qualitative research contradict these findings. The connection between the general public's attitudes toward people with disabilities and their employment prospects as well as the impact of direct work contact with people with disabilities has not been explored with a large sample representative of the general population. More importantly, previous research on public attitudes toward people with disabilities (Harris Polls, 2003, 1998; Kaiser Family Foundation, 2004; Siperstein et al., 2005) has used one or two-dimensional models of attitudinal measurement. This is a significant disadvantage to the development of knowledge in this area, especially with regard to the behavioral component of attitudes, which is not included in previous studies. Without a better understanding of the causal factors that compel an individual to act out her/his thoughts and emotions, the value of research on public attitudes toward people with disabilities is significantly diminished.

ODEP strongly believes that the research on public attitudes toward people with disabilities needs a strategic and scientifically based approach that rigorously collects and aggregates data from a larger sample of the American public, a more comprehensive approach to attitude measurement, and a multivariate predictive analytical approach to the analysis of findings. Therefore, the proposed 2009 survey is designed to meet those needs, as follows: The survey will draw a sample n = 1,600, which is roughly double the size of the sample of the 2005 National Survey of Consumer Attitudes; It will use a multidimensional validated scale of attitudes toward disabled people that has been tested in a multitude of published works since the mid-1990s; It will apply analytical methods that develop causal and associative explanations for both attitude change and development and the behavior of individuals.

Signed at Washington, DC this January 11, 2010.
Kathy Martinez,
Assistant Secretary.

[FR Doc. 2010-595 Filed 1-13-10; 8:45 am]

BILLING CODE 4510-FK-P